COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Information and Regulatory Affairs (OIRA), of the Office of Management and Budget (OMB), for review and comment. The ICR describes the nature of the information collection and its expected costs and burden.

DATES: Comments must be submitted on or before July 29, 2024.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0095, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, prescreen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Jason Smith, Assistant Chief Counsel, Division of Market Oversight, Commodity Futures Trading Commission, (202) 418-5698; email: jsmith@cftc.gov, and refer to OMB Control No. 3038-0095.

SUPPLEMENTARY INFORMATION:

Title: Large Trader Reporting for Physical Commodity Swaps (OMB Control No. 3038-0095). This is a request for extension of a currently approved information collection.

Abstract: Part 20 of the Commission's regulations (“Reporting Rules”) requires clearing organizations and any persons that are “reporting entities” to file swaps position data with the Commission. The Reporting Rules require each clearing organization to submit clearing member reports to the Commission. The Reporting Rules also require each reporting entity to submit position reports to the Commission that indicate the reporting entity's principal and counterparty positions in cleared and uncleared physical commodity swaps. Reporting entities are persons that are either “clearing members” or “swap dealers” that are otherwise not clearing members. For purposes of part 20, reporting parties are required to submit data on positions on a futures equivalent basis so as to allow the Commission to assess a trader's market impact across differently structured but linked derivatives instruments and markets. This renewal updates the total requested burden based on available reported data.

An agency may not conduct or sponsor, and a person is not required to respond to, a collection of information unless it displays a currently valid OMB control number. On March 18, 2024, the Commission published in the Federal Register notice of the proposed extension of this information collection and provided 60 days for public comment on the proposed extension, 89 FR 19298 (“60-Day Notice”). The Commission received three relevant comment letters on the 60-Day Notice,² which are discussed below.

² The following entities submitted a relevant comment letter: The Futures Industry Association, Inc. (“FIA”) collectively with the International Swaps and Derivatives Association, Inc. (“ISDA”) (collectively, “FIA-ISDA”), BP Energy Company (“BPEC”), and The Commercial Energy Working Group (the “Working Group”).

First, the commenters argued that the Commission should sunset the Reporting Rules. BPEC and the Working Group asserted that swap data repositories (“SDRs”) collect and submit data to the Commission that duplicates data derived by the Reporting Rules.³ FIA-ISDA stated that SDRs collect open commodity swap position data from reporting parties, and asserted that because SDRs submit open swaps data in the same format, the Commission should be able to aggregate the open swap positions of all swap market participants in a way that allows the Commission to surveil trading in the physical commodity swap and swaptions markets.⁴

³ BPEC at 2; Working Group at 1.

⁴ FIA-ISDA at 3.

Under the Reporting Rules' sunset provision, the Commission may “sunset” the reporting rules upon the issuance of an order containing a Commission finding that SDRs are processing positional data in a way that enables effective surveillance of trading in paired swaps and swaptions and paired swap and swaption markets.⁵ The Commission has not, however, issued an order with such a finding. At the time of adoption, the Commission determined that the Reporting Rules are necessary notwithstanding the possibility that SDRs could later be used to generate positional data.⁶ The Commission has continued to recognize that large trader reporting is critical to the Commission's mission.⁷ Moreover, the Commission notes that there are differences in data reported pursuant to the Reporting Rules and the SDR commodity open swaps reports, including, as one example, the reporting in futures contracts equivalents under the Reporting Rules. In addition, commodity products reporting is not currently standardized in all aspects across SDRs.⁸ Nonetheless, the Commission will continue to evaluate the Reporting Rules and the Commission may address the sunset comments at a later date. If the Commission were to seek to sunset the Reporting Rules, such sunset would occur through Commission action by way of an order as contemplated by Commission regulation 20.9, and not through the present PRA renewal.

⁵ See 17 CFR 20.9(a).

⁶ Large Trader Reporting for Physical Commodity Swaps, 76 FR 43851 at 43858.

⁷ See, e.g., In the Matter of Wells Fargo Bank, N.A. (Sept. 27, 2016) (noting that large trader reporting “is critical to the mission of the Commission for numerous reasons, including surveillance of the markets to detect disruptions to market integrity, enforcement and calculating statistics that the Commission publishes to enhance market transparency”).

⁸ See Swap Data Recordkeeping and Reporting Requirements, Final Rule, 85 FR 75503, 75540 (Nov. 2020).

In addition, FIA-ISDA commented on the burden part 20 imposes on market participants and the Commission. FIA-ISDA asserted that the Commission's estimated average burden per respondent of 14.33 hours underestimates the burden because the Swaps LTR Guidebook “takes many hours” to understand and “[i]dentifying in-scope swaps, calculating futures equivalent quantities, programing IT systems, verifying the accuracy of data inputs and outputs, and submitting and correcting reports takes each reporting party hundreds of manhours.” ⁹

⁹ FIA-ISDA at 3 n.13; see also BPEC at 4 (asserting that “LTR reporting is a significant burden on industry” without providing quantitative data on reporting burden).

For the reasons described below, the Commission has determined to retain the burden hour estimates described in the 60-Day Notice. The Commission's burden estimates were calculated during the 2011 rulemaking that issued the Large Trader Reporting Rules and were subject to comment.¹⁰ The estimate of 14.33 hours per respondent is an annual average, and these burden estimates (and the accompanying cost-benefit analysis during the original rulemaking) accounted for upfront costs.¹¹ Moreover, these burden estimates have been reviewed and updated through PRA renewals at various points since 2011. The commenters have not provided specific hours estimates regarding the burden associated with reporting under the rule. In the absence of specific data showing how the Commission's burden estimates should be changed, and in light of cost having been included in the Commission's prior upfront cost analyses, the Commission has determined to retain its existing burden hour estimates. Although the Commission is not revising it burden estimates here, it will continue to evaluate its burden estimates and may revise them in the future, as appropriate.

¹⁰ Large Trader Reporting for Physical Commodity Swaps, 76 FR 43851 at 43860 (Both FIA and the Working Group submitted comments during that rulemaking process).

¹¹ Id.at 43854, 43859-60.

Burden Statement: The Commission is revising its estimate of the burden for this collection. The respondent burden for this collection is estimated to be as follows:

Estimated Number of Respondents: 3,654.

Estimated Total Annual Number of Responses (Reporting and Recordkeeping): 33,325.

Estimated Average Burden Hours per Respondent: 14.33.

Estimated Average Annual Burden Hours per Response: 1.57.

Estimated Total Annual Burden Hours: 52,366.

Frequency of Collection: Daily; On Occasion.

The Commission estimates that the annualized capital and start-up and operational and maintenance costs associated with this collection total is $33,895,705.

Authority: 44 U.S.C. 3501 et seq.

Dated: June 25, 2024.
Robert Sidman,
Deputy Secretary of the Commission.

[FR Doc. 2024-14250 Filed 6-27-24; 8:45 am]

BILLING CODE 6351-01-P